DEPARTMENT OF AGRICULTURE

Animal and Plant Health Inspection Service

[Docket No. APHIS-2019-0005]

Environmental Impact Statement for Predator Damage Management in Idaho

AGENCY: Animal and Plant Health Inspection Service, USDA.

ACTION: Notice of intent to prepare an environmental impact statement.

SUMMARY: We are advising the public that the Animal and Plant Health Inspection Service plans to prepare an environmental impact statement analyzing alternatives for predator damage management in Idaho.

FOR FURTHER INFORMATION CONTACT: Mr. Kirk Gustad, Wildlife Services, APHIS, USDA, 9134 West Blackeagle Drive, Boise, ID 83709; (208) 373-1630.

SUPPLEMENTARY INFORMATION: The Animal and Plant Health Inspection Service (APHIS) intends to prepare an environmental impact statement (EIS) to address alternatives for APHIS Wildlife Services' involvement in managing damage and threats to livestock and other domestic animals, agricultural resources, property, natural resources, and human health and safety associated with predators in Idaho. The scope of the EIS is intended to include management of damage and conflicts associated with coyotes, gray wolves, black bears, grizzly bears, mountain lions, bobcats, red foxes, striped skunks, raccoons, badgers, feral and free-ranging dogs, common ravens, and black-billed magpies. Feral and free-ranging cats, feral swine, western spotted skunks, mink, long-tailed weasels, short-tailed weasels, American crows, bald eagles, and golden eagles are associated with conflicts on rare occasions and also will be addressed in the analysis.

We anticipate initiating public scoping for the EIS in May 2019. Once completed, the EIS will replace APHIS Wildlife Services' regional environmental assessments on predator damage management in Southern Idaho and in Northern and Central Idaho, and the environmental assessment on gray wolf damage management in Idaho.

Done in Washington, DC, on February 27, 2019.
Kevin Shea,
Administrator, Animal and Plant Health Inspection Service.

[FR Doc. 2019-03834 Filed 3-1-19; 8:45 am]

BILLING CODE 3410-34-P